ENVIRONMENTAL PROTECTION AGENCY

[EPA-HQ-OW-2016-0439; FRL-9955-83-OW]

Peer Review of EPA's Biologically Based Dose-Response (BBDR) Model for Perchlorate in Drinking Water—Final List of Peer Reviewers, Notice of the Public Peer Review Meeting and Final Peer Review Charge Questions

AGENCY: Environmental Protection Agency (EPA).

ACTION: Notice of final peer reviewer selection, public peer review meeting and final peer review charge questions.

SUMMARY: The U.S. Environmental Protection Agency (EPA) is announcing the final peer reviewers assembled by Versar, Inc., an EPA contractor, for the external peer review of EPA's draft Biologically Based Dose-Response (BBDR) Model for perchlorate in drinking water and an accompanying draft model report. The draft model report is entitled “Biologically Based Dose-Response Models for the Effect of Perchlorate on Thyroid Hormones in the Infant, Breast Feeding Mother, Pregnant Mother, and Fetus: Model Development, Revision, and Preliminary Dose-Response Analyses.” EPA is also announcing availability of the final peer review charge. The charge provides the purpose and context for the assessment and will guide the peer review experts by identifying the key scientific issues associated with the review of the model and report. EPA is also announcing that Versar, Inc., will organize and conduct the public peer review meeting for the draft BBDR model and draft model report on January 10 and 11, 2017, in Arlington, Virginia. The meeting will be devoted to discussion and deliberation of major issues identified by the peer reviewers regarding EPA's draft BBDR model and draft model report and will be guided by the final charge questions. Versar, Inc., invites the public to register to attend this two-day meeting as observers, either in-person or via teleconference. Time will be set aside at the meeting for brief oral statements from the public regarding the draft BBDR model and model report.

DATES: The public peer review meeting will be held on January 10 and 11, 2017. The meeting will be held from approximately 8:30 a.m. to 5 p.m., eastern time, on January 10; and from approximately 8:30 a.m. to 2 p.m., eastern time, on January 11. The registration deadline to attend the meeting in-person or via teleconference, and to request to make a brief oral statement at the meeting, is January 3, 2017. See the SUPPLEMENTARY INFORMATION section for instructions of how to register.

ADDRESSES: The public peer review meeting will be held at the Crystal City Marriott at Reagan National Airport, located at 1999 Jefferson Davis Highway, Arlington, Virginia. The phone number for the teleconference line will be provided to registered observers prior to the meeting.

FOR FURTHER INFORMATION CONTACT: Questions regarding logistics or registration for the external peer review meeting should be directed to Versar, Inc., at 6850 Versar Center, Springfield, VA 22151; by email: perchlorate@versar.com (subject line: Perchlorate Peer Review); or by phone: (301) 304-3121 (ask for Tracey Cowen). For additional information concerning the draft BBDR model and the draft report, please contact Russ Perkinson at the U.S. Environmental Protection Agency, Office of Ground Water and Drinking Water, Standards and Risk Management Division (Mail Code 4607M), 1200 Pennsylvania Avenue NW., Washington, DC 20460; telephone: 202-564-4901; or email: perkinson.russ@epa.gov.

SUPPLEMENTARY INFORMATION:

I. Registration Instructions

To attend the peer review meeting as an observer, either in-person or via teleconference, register no later than January 3, 2017. You may register by sending an email to perchlorate@versar.com (Subject line: Perchlorate Peer Review Registration; and include your name, title, affiliation, full address, email and phone number); calling Versar at (301) 304-3121 (ask for Tracey Cowen); or sending a facsimile to (703) 642-6809, ATTN: Perchlorate Peer Review Registration (include your name, title, affiliation, full address, email and phone number). Please indicate which day(s) you plan to attend the meeting and whether you plan to attend via teleconference or in-person. Space is limited, and registrations will be accepted on a first-come, first-served basis. There will be a limited amount of time for oral statements from the public near the beginning of the peer review meeting on the first day. If you wish to make an oral statement during the meeting, you must notify Versar of your request to speak no later than January 3, 2017. Versar will notify speakers of specific time limits for their oral statements. Versar will accept requests to make oral statements on a first-come, first-served basis, and may limit the amount of time for each speaker as well as the number of speakers due to time constraints.

II. Information on EPA's Biologically Based Dose-Response (BBDR) Model for Perchlorate in Drinking Water

EPA announced the release of the draft BBDR model for perchlorate in drinking water and accompanying draft model report for purposes of public comment (scientific views) and peer review on September 30, 2016, in the Federal Register (81 FR 67350). The original 45-day public comment period ended on November 14, 2016, but the public comment period was extended until November 25, 2016. EPA will consider peer reviewer and public comments when finalizing the BBDR model and model report. The draft model and draft model report and public comments submitted during the public comment period may be viewed at http://www.regulations.gov (Docket ID No. EPA-HQ-OW-2016-0438). The Agency will seek peer review of a second report that evaluates methods to apply the final BBDR model to develop a maximum contaminant level goal for perchlorate in drinking water in a future Federal Register notice.

III. Information on Final Peer Review Charge Questions

EPA announced the release of the draft peer review charge questions on September 30, 2016, in the Federal Register (81 FR 67347). The 21-day public comment period ended on October 21, 2016. EPA considered the public comments when finalizing the charge questions. The final peer review charge questions are available through the docket at http://www.regulations.gov (Docket ID No. EPA-HQ-OW-2016-0439).

IV. Information About the Peer Reviewers

Consistent with guidelines for the peer review of highly influential scientific assessments, EPA tasked a contractor (Versar, Inc.) to assemble a panel of experts to evaluate the draft BBDR model and draft model report. Versar, Inc., evaluated 35 candidates who were either nominated during two previous public comment periods (March 1 to 31, 2016, and June 3 to July 5, 2016) or were identified by Versar to augment the list of publically-nominated candidates. Versar narrowed the list of potential reviewers to 19 candidates and solicited public comments on the interim list on September 30, 2016, in the Federal Register (81 FR 67347). Using the selection criteria described in Federal Register notices dated March 1, 2016, (81 FR 10617) and June 3, 2016, (81 FR 35760), Versar selected eight final peer reviewers who, collectively, best provide expertise spanning the multiple subject matter areas covered by the draft model and model report, and to the extent feasible, best provide a balance of perspectives. The final list of the eight selected peer reviewers is provided below.

Name of Nominee, Degree—Place of Employment

1. Hugh A. Barton, Ph.D.—Pfizer, Inc.

2. Claude Emond, Ph.D.—University of Montreal

3. Dale Hattis, Ph.D.—George Perkins Marsh Institute, Clark University

4. Angela M. Leung, M.D., M.Sc.—UCLA David Geffen School of Medicine

5. Michael H. Lumpkin, Ph.D., DABT—Center for Toxicology and Environmental Health, LLC

6. Elizabeth N. Pearce, M.D., M.Sc.—Boston Medical Center/Boston University School of Medicine

7. Stephen M. Roberts, Ph.D.—University of Florida

8. Joanne F. Rovet, Ph.D.—The Hospital for Sick Children (Toronto)

EPA requests that no individual or organization contact in any way the peer reviewers regarding the subject of the peer review meeting, send them written materials regarding the subject of the meeting, or make any offers or requests to any of them that appear to be linked to their participation in the peer review. The contractor (Versar, Inc.) will direct the reviewers to report any such contacts to the contractor (Versar, Inc.), who will take appropriate action in consultation with EPA to ensure the independence and impartiality of the peer review.

V. Information About the Peer Review Meeting

EPA has charged the peer reviewers with evaluating and preparing written comments on the draft BBDR model and draft model report. Specifically, reviewers will provide general comments, their overall impressions of the draft model and draft model report and responses to the charge questions. Reviewers will also consider the appropriateness of the quality, accuracy and relevance of the data in the documents. Versar will provide a summary of comments (along with the full text of the comments) submitted to EPA's public docket (Docket ID No. EPA-HQ-OW-2016-0438) during the 56-day public comment period on the draft model and draft model report to the peer reviewers ahead of the meeting for their consideration.

Peer reviewers will participate in the two-day, public peer review meeting to discuss the scientific basis supporting EPA's draft BBDR model and model report. Following the peer review meeting, Versar will provide a peer review summary report to EPA containing the comments and recommendations from the peer reviewers. EPA will make the final peer review report available to the public.

In preparing the final BBDR model and model report, EPA will consider Versar's report of the comments and recommendations from the external peer review meeting, as well as written public comments received through the official public docket during the previous 56-day comment period on the draft model and draft model report.

Dated: November 22, 2016.
Joel Beauvais,
Deputy Assistant Administrator, Office of Water.

[FR Doc. 2016-29108 Filed 12-2-16; 8:45 am]

BILLING CODE 6560-50-P